DEPARTMENT OF HOUSING AND URBAN DEVELOPMENT

[Docket No. FR-4736-N-02]

Notice of Proposed Information Collection for Public Comment—Application Requirements for the Resident Opportunities and Self-Sufficiency Technical Assistance (ROSS-TA) Program and Consultant Application Requirements

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comment Due Date: June 4, 2002.

ADDRESSES: Interested persons are invited to submit comments regarding this proposal. Comments should refer to the proposal by name and/or OMB Control number and should be sent to: Mildred M. Hamman, Reports Liaison Officer, Public and Indian Housing, Department of Housing and Urban Development, 451 7th Street, SW, Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected, and (4) minimize the burden of the collection of the information on those who are to respond, including through the use of appropriate automated collection techniques or other forms of information technology, e.g., permitting electronic submission of responses.

This Notice also lists the following information:

Title of Proposal: Application Requirements for the Resident Opportunities and Self-Sufficiency Technical Assistance (ROSS-TA) Program and Consultant Application Requirements.

OMB Control Number: 2577-

Description of the need for the information and proposed use: Eligible program applicants and consultants must submit information for review and to be selected to participate in the ROSS-TA Program. The ROSS-TA Program provides short-term technical assistance (TA) and consultant services, no more than 30 billable days over a period of 90 calendar days to ROSS grantees. ROSS grantees must briefly state the problem and where technical assistance is needed. Eligible consultants must identify specific skills that Identify their capabilities and interests, experience working with resident groups, statement of work, and criminal record information.

Agency form numbers, if applicable: HUD-52364, HUD-52366, HUD-52367, HUD-52368 and HUD-52369.

Members of affected public: Local, State, or Tribal Governments, Businesses or Other For-Profit.

Estimation of the total number of hours needed to prepare the information collection including number of respondents, frequency of response, and hours of response; 200 grantees, 700 consultants, total 900 responses; one-time submission per grantee response; average three times a year per consultant response; average hours for grantee response is 8 hours; average hours for consultant response is 20 hours; the total reporting burden is 43,600.

Status of the proposed information collection: New.

Authority: Section 3506 of the Paperwork Reduction Act of 1995, 44 U.S.C. Chapter 35, as amended.

Dated: March 28, 2002.
Michael Liu,
Assistant Secretary for Public and Indian Housing.

BILLING CODE 4210-33-M

[FR Doc. 02-8199 Filed 4-4-02; 8:45 am]

BILLING CODE 4210-33-C